DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Northern Indiana Commuter Transportation District

[Waiver Petition Docket Number FRA-2006-24562]

The Northern Indiana Commuter Transportation District (NICTD) seeks approval to participate in a previously granted waiver of compliance with the requirements of the Passenger Equipment Safety Standards contained in 49 CFR 238.309(b)(3), Periodic brake equipment maintenance, which requires that brake equipment receive periodic maintenance at 736 days. The previously granted waiver was issued to the Northeast Illinois Regional Commuter Railroad Corporation (METRA) and authorized METRA to extend the time period from 736 days between inspections to 1,840 days for 26 new bi-level electric passenger MU's.

NICTD purchased 14 bi-level electric MU's that are equipped with identical braking systems as the 26 electric MU locomotives for which the relief was previously granted. The 14 NICTD cars are the subject of this waiver request. The 14 NICTD cars and the 26 METRA cars were built by Sumitomo Corporation of America/Nippon Sharyo and the air brake system was provided by Knorr Brake Corporation, Westminster, Maryland. NICTD explains in its petition that the brake application is transmitted electronically to each MU's Friction Brake Control Unit (FBCU). The FBCU then provides the requested brake application without drawing down brake pipe pressure. An Emergency Magnetic Valve is provided on each MU for an electronic emergency brake application.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-24562) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on April 12, 2010.
Grady C. Cothen, Jr.,
Deputy Associate Administrator for Safety Standards and Program Development.

[FR Doc. 2010-8691 Filed 4-15-10; 8:45 am]

BILLING CODE 4910-06-P